DEPARTMENT OF THE INTERIOR

Bureau of Reclamation

Agency Information Collection; Proposed Revisions to a Currently Approved Information Collection

AGENCY: Bureau of Reclamation, Interior.

ACTION: Notice of revisions.

SUMMARY: The Bureau of Reclamation intends to submit a request for renewal (with revisions) of an existing approved information collection to the Office of Management and Budget (OMB): Use Authorization Application (Form 7-2540), OMB Control Number: 1006-0003.

DATES: Submit written comments on the revised information collection on or before January 31, 2012.

ADDRESSES: Send written comments to or requests for copies of the proposed revised application to the Bureau of Reclamation, Attention: 84-53000, P.O. Box 25007, Denver, CO 80225-0007.

FOR FURTHER INFORMATION CONTACT: Greek Taylor at (303) 445-2895.

SUPPLEMENTARY INFORMATION:

I. Abstract

Reclamation is responsible for approximately 6.5 million acres of land which directly support Reclamation's Federal water projects in the 17 western states. Under Title 43 CFR part 429, individuals or entities wanting to use Reclamation's lands, facilities, or waterbodies must apply using Form 7-2540. Examples of such uses are:

—Agricultural uses such as grazing and farming;

—Commercial or organized recreation and sporting activities;

—Other commercial activities such as “guiding and outfitting” and “filming and photography;” and

—Resource exploration and extraction, including sand and gravel removal and timber harvesting.

Reclamation reviews applications to determine whether granting individual use authorizations is compatible with Reclamation's present or future uses of the lands, facilities, or waterbodies. When we find a proposed use compatible, we advise the applicant of the estimated administrative costs and estimated application processing time. In addition to the administrative costs, we require the applicant to pay a use fee based on a valuation or by competitive bidding. If the application is for construction of a bridge, building, or other significant construction project, Reclamation may require that all plans and specifications be signed and sealed by a licensed professional engineer.

II. Changes to the Use Authorization Application Form and Its Instructions

We changed the form and its instructions to expand the examples in the instructions of proposed uses for which you may seek permission and changed some language to more closely reflect the actual wording of 43 CFR part 429.

We made other changes to the form and the instructions to improve the readability and information-gathering. For instance, we re-organized the instructions and added headings. We moved some of the instructions from the first page to the second page and made more room on the first page for details about the proposed use.

Because Social Security Numbers (SSNs) and Taxpayer Identification Numbers (TINs) have been determined to be of limited use, we removed the item which requested them from this form. We removed the item which requested insurance information for similar reasons.

III. Data

OMB Control Number: 1006-0003.

Title: Use Authorization Application.

Form Number: Form 7-2540.

Frequency: Each time a use authorization is requested.

Respondents: Individuals, corporations, companies, and State and local entities who want to use Reclamation lands, facilities, or waterbodies.

Estimated Annual Total Number of Respondents: 175.

Estimated Number of Responses per Respondent: 1.

Estimated Total Number of Annual Responses: 175.

Estimated Total Annual Burden on Respondents: 350 hours.

Estimated Completion Time per Respondent: 2 hours.

IV. Request for Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

We will summarize all comments received regarding this notice. We will publish that summary in the Federal Register when the information collection request is submitted to OMB for review and approval.

Before including your address, telephone number, email address, or other personal identifying information in your comment, you should be aware that your entire comment (including your personal identifying information) may be made publicly available at any time. While you can ask us in your comment to withhold your personal identifying information from public review, we cannot guarantee that we will be able to do so.

Dated: November 28, 2011.
Roseann Gonzales,
Director, Policy and Administration, Denver Office.

[FR Doc. 2011-30993 Filed 12-1-11; 8:45 am]

BILLING CODE 4310-MN-P